DEPARTMENT OF TRANSPORTATION

Federal Aviation Administration

14 CFR Part 39

[Docket No. FAA-2021-0454; Project Identifier AD-2021-00006-R RIN 2120-AA64

Airworthiness Directives; Bell Textron Inc. (Type Certificate Previously Held by Bell Helicopter Textron Inc.) Helicopters

AGENCY: Federal Aviation Administration (FAA), DOT.

ACTION: Notice of proposed rulemaking (NPRM).

SUMMARY: The FAA proposes to adopt a new airworthiness directive (AD) for certain Bell Textron Inc. (type certificate previously held by Bell Helicopter Textron Inc.) (Bell) Model 205B helicopters. This proposed AD was prompted by a notification of certain parts needing a life limit. This proposed AD would require determining the total hours time-in-service (TIS) of certain part numbered main rotor grip assemblies (grip assemblies), establishing a life limit for certain part-numbered grip assemblies, removing from service any grip assembly that has reached or exceeded its retirement life, creating a component history card, and removing any grip assembly from service before reaching its retirement life. This proposed AD would also prohibit installing certain grip assemblies unless the life limit was established in accordance with this proposed AD. The FAA is proposing this AD to address the unsafe condition on these products.

DATES: The FAA must receive comments on this proposed AD by July 26, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

Examining the AD Docket

You may examine the AD docket at https://www.regulations.gov by searching for and locating Docket No. FAA-2021-0454; or in person at Docket Operations between 9 a.m. and 5 p.m., Monday through Friday, except Federal holidays. The AD docket contains this NPRM, any comments received, and other information. The street address for Docket Operations is listed above.

FOR FURTHER INFORMATION CONTACT: Kuethe Harmon, Safety Management Program Manager, DSCO Branch, Compliance & Airworthiness Division, FAA, 10101 Hillwood Pkwy., Fort Worth, TX 76177; telephone (817) 222-5198; email Kuethe.harmon@faa.gov.

SUPPLEMENTARY INFORMATION:

Comments Invited

The FAA invites you to send any written relevant data, views, or arguments about this proposal. Send your comments to an address listed under ADDRESSES. Include “Docket No. FAA-2021-0454; Project Identifier AD-2021-00006-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kuethe Harmon, Safety Management Program Manager, DSCO Branch, Compliance & Airworthiness Division, FAA, 10101 Hillwood Pkwy., Fort Worth, TX 76177; telephone (817) 222-5198; email Kuethe.harmon@faa.gov. Any commentary that the FAA receives which is not specifically designated as CBI will be placed in the public docket for this rulemaking.

Background

The FAA received notification from Bell of established life limits for certain part numbered grip assemblies that were not included in Chapter 4—Airworthiness Limitations Schedule (ALS) of Bell Helicopter 205B Maintenance Manual BHT-205B-MM-1, Revision 1, dated July 15, 1993. Bell states the life limit of 9,000 hours TIS for grip assembly part number (P/N) 204-011-121-005, P/N 204-011-121-113, and P/N 204-011-121-005 was left out of the ALS for Model 205B helicopters. Bell states this may suggest that these part numbers have an unlimited life when installed on Model 205B helicopters, whereas the retirement life is 9,000 hours TIS. This condition, if not addressed, could result in fatigue and failure of the grip assembly and loss of control of the helicopter.

Accordingly, Bell specifies updating the existing ALS to establish a life limit of 9,000 hours TIS for grip assembly P/N 204-011-121-005, P/N 204-011-121-113, and P/N 204-011-121-005.

FAA's Determination

The FAA is issuing this NPRM after determining that the unsafe condition described previously is likely to exist or develop on other products of the same type design.

Proposed AD Requirements in This NPRM

This proposed AD would require, before further flight, determining the total hours TIS of certain part-numbered grip assemblies and removing from service any certain part-numbered grip assembly that has accumulated or exceeded 9,000 total hours TIS. This proposed AD would also require, for certain part-numbered grip assemblies that have not accumulated or exceeded 9,000 total hours TIS, creating a component history card or equivalent record to annotate a life limit of 9,000 total hours TIS and removing these grip assemblies from service before accumulating 9,000 total hours TIS. Finally, this NPRM would prohibit installing any affected grip assembly that has exceeded or accumulated 9,000 hours TIS, and prohibit alternative life limits for any affected grip assembly.

Costs of Compliance

The FAA estimates that this proposed AD would affect 2 helicopters of U.S. registry. The FAA estimates that operators may incur the following costs in order to comply with this AD. Labor costs are estimated at $85 per work-hour.

Determining the total hours TIS of each grip assembly and updating the helicopter records would take about 1 work-hour for each grip assembly, for an estimated cost of $85 per helicopter and $170 for the U.S fleet.

Replacing each grip assembly would take about 16 work-hours and parts would cost about $50,000 for an estimated cost of $51,360 per grip assembly.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bell Textron Inc. (Type Certificate Previously Held by Bell Helicopter Textron Inc.): Docket No. FAA-2021-0454; Project Identifier AD-2021-00006-R.

(a) Comments Due Date

The FAA must receive comments on this airworthiness directive (AD) by July 26, 2021.

(b) Affected ADs

None.

(c) Applicability

This AD applies to Bell Textron Inc. (type certificate previously held by Bell Helicopter Textron Inc.) (Bell) Model 205B helicopters, certificated in any category, with main rotor grip assembly (grip assembly) part number (P/N) 204-011-121-005, P/N 204-011-121-113, or P/N 204-011-121-117 installed.

(d) Subject

Joint Aircraft System Component (JASC) Code: 6220, Main Rotor Head.

(e) Unsafe Condition

This AD was prompted by a notification of certain parts needing a life limit. The FAA is issuing this AD to prevent a grip assembly remaining in service beyond its fatigue life. The unsafe condition, if not addressed, could result in fatigue and failure of the grip assembly and loss of helicopter control.

(f) Compliance

Comply with this AD within the compliance times specified, unless already done.

(g) Required Actions

(1) Before further flight after the effective date of this AD, determine the total hours time-in-service (TIS) of any grip assembly having P/N 204-011-121-005, P/N 204-011-121-113, or P/N 204-011-121-117. Remove from service any grip assembly that has accumulated or exceeded 9,000 total hours TIS. For each grip assembly that has accumulated less than 9,000 total hours TIS, do the following:

(i) Create a component history card or equivalent record to establish a life limit of 9,000 total hours TIS.

(ii) Thereafter, remove from service any grip assembly before it accumulates 9,000 total hours TIS.

(2) Thereafter, no alternative life limits may be approved for any grip assembly P/N 204-011-121-005, P/N 204-011-121-113, or P/N 204-011-121-117.

(3) As of the effective date of this AD, do not install any grip assembly having P/N 204-011-121-005, P/N 204-011-121-113, or P/N 204-011-121-117 on any Model 205B helicopter unless the life limit is established in accordance with this AD.

(h) Special Flight Permits

Special flight permits are prohibited.

(i) Alternative Methods of Compliance (AMOCs)

(1) The Manager, DSCO Branch, FAA, has the authority to approve AMOCs for this AD, if requested using the procedures found in 14 CFR 39.19. In accordance with 14 CFR 39.19, send your request to your principal inspector or local Flight Standards District Office, as appropriate. If sending information directly to the manager of the DSCO Branch, send it to the attention of the person identified in paragraph (j)(1) of this AD. Information may be emailed to: 9-ASW-190-COS@faa.gov.

(2) Before using any approved AMOC, notify your appropriate principal inspector, or lacking a principal inspector, the manager of the local flight standards district office/certificate holding district office.

(j) Related Information

For more information about this AD, contact Kuethe Harmon, Safety Management Program Manager, DSCO Branch, Compliance & Airworthiness Division, FAA, 10101 Hillwood Pkwy., Fort Worth, TX 76177; telephone (817) 222-5198; email Kuethe.harmon@faa.gov.

Issued on June 3, 2021.
Lance T. Gant,
Director, Compliance & Airworthiness Division, Aircraft Certification Service.

[FR Doc. 2021-12038 Filed 6-9-21; 8:45 am]

BILLING CODE 4910-13-P